DEPARTMENT OF LABOR

Employment and Training Administration

Notice of a Change in Status of an Extended Benefit (EB) Period for Alaska

AGENCY: Employment and Training Administration, Labor.

ACTION: Notice.

SUMMARY: This notice announces a change in benefit period eligibility under the EB Program for Alaska.

The following change has occurred since the publication of the last notice regarding the State's EB status:

• Based on data reported by the Bureau of Labor Statistics on September 19, 2008, Alaska triggered “off” EB. Alaska's 3-month total unemployment rate for June, July and August fell to 109% of the prior year and 106% of the second prior year for the same period. This causes Alaska to be triggered “off” an EB period. After the week ending October 11, 2008, workers who exhaust their regular UI benefits will no longer be eligible to collect up to an additional 13 weeks of UI benefits under this program.

Information for Claimants

The duration of benefits payable in the EB Program, and the terms and conditions on which they are payable, are governed by the Federal-State Extended Unemployment Compensation Act of 1970, as amended, and the operating instructions issued to the states by the U.S. Department of Labor. In the case of a state ending an EB period, the State Workforce Agency will furnish a written notice to each individual who is currently filing a claim for EB of the forthcoming end of the EB period and its effect on the individual's rights to EB (20 CFR 615.13(c)(4)).

FOR FURTHER INFORMATION CONTACT: Scott Gibbons, U.S. Department of Labor, Employment and Training Administration, Office of Workforce Security, 200 Constitution Avenue, NW., Frances Perkins Bldg., Room S-4231, Washington, DC 20210, telephone number (202) 693-3008 (this is not a toll-free number) or by e-mail: gibbons.scott@dol.gov.

Signed in Washington, DC, this 29th day of September, 2008.
Brent R. Orrell,
Deputy Assistant Secretary of Labor for Employment and Training.

[FR Doc. E8-23637 Filed 10-6-08; 8:45 am]

BILLING CODE 4510-FW-P